DEPARTMENT OF TRANSPORTATION

Federal Aviation Administration

Notice of Submission Deadline for Schedule Information for Chicago O'Hare International Airport, John F. Kennedy International Airport, Los Angeles International Airport, Newark Liberty International Airport, and San Francisco International Airport for the Summer 2019 Scheduling Season

AGENCY: Department of Transportation, Federal Aviation Administration (FAA).

ACTION: Notice of submission deadline.

SUMMARY: Under this notice, the FAA announces the submission deadline of October 4, 2018, for summer 2019 flight schedules at Chicago O'Hare International Airport (ORD), John F. Kennedy International Airport (JFK), Los Angeles International Airport (LAX), Newark Liberty International Airport (EWR), and San Francisco International Airport (SFO). The deadline coincides with the schedule submission deadline for the International Air Transport Association (IATA) Slot Conference for the summer 2019 scheduling season.

DATES: Schedules must be submitted no later than October 4, 2018.

ADDRESSES: Schedules may be submitted by mail to the Slot Administration Office, AGC-200, Office of the Chief Counsel, 800 Independence Avenue SW, Washington, DC 20591; facsimile: 202-267-7277; or by email to: 7-AWA-slotadmin@faa.gov.

FOR FURTHER INFORMATION CONTACT: Bonnie C. Dragotto, Regulations Division, FAA Office of the Chief Counsel, AGC-240, Room 916N, Federal Aviation Administration, 800 Independence Avenue SW, Washington, DC 20591; telephone (202) 267-3808; email Bonnie.Dragotto@faa.gov.

SUPPLEMENTARY INFORMATION: The FAA has designated EWR, LAX, ORD, and SFO as IATA Level 2 airports ¹ and JFK as an IATA Level 3 airport under the Worldwide Slot Guidelines (WSG). The FAA currently limits scheduled operations at JFK by Order until October 24, 2020.²

¹ These designations will remain effective at these airports until the FAA announces a change.

² Operating Limitations at John F. Kennedy International Airport, 73 FR 3510 (Jan. 18, 2008), as amended 83 FR 46865 (September 17, 2018).

The FAA is primarily concerned about scheduled and other regularly conducted commercial operations during peak hours, but carriers may submit schedule plans for the entire day. At ORD, the peak hours for the summer 2019 scheduling season are 0700 to 2100 Central Time (1200 to 0200 UTC), at LAX and SFO from 0600 to 2300 Pacific Time (1300 to 0600 UTC), and at EWR and JFK from 0600 to 2300 Eastern Time (1000 to 0300 UTC). These hours are unchanged from previous scheduling seasons. Carriers should submit schedule information in sufficient detail including, at minimum, the marketing or operating carrier, flight number, scheduled time of operation, frequency, aircraft equipment, and effective dates. IATA standard schedule information format and data elements for communications at Level 2 and Level 3 airports in the IATA Standard Schedules Information Manual (SSIM) Chapter 6 may be used. The WSG provides additional information on schedule submissions at Level 2 and Level 3 airports.

The U.S. summer scheduling season is from March 31, 2019, through October 26, 2019, in recognition of the IATA northern summer scheduling period. The FAA understands there may be differences in schedule times due to different U.S. daylight saving time dates and will accommodate these differences to the extent possible.

General Information for All Airports

As stated in the WSG, schedule facilitation at a Level 2 airport is based on schedule adjustments mutually agreed between the airlines and the facilitator; the intent is to avoid exceeding the airport's coordination parameters; the concepts of historic precedence and series of slots do not apply at Level 2 airports; and the facilitator should adjust the smallest number of flights by the least amount of time necessary to avoid exceeding the airport's coordination parameters. Consistent with the WSG, the success of Level 2 in the U.S. depends on the voluntary cooperation of all carriers.

The FAA considers several factors and priorities as it reviews schedule requests at Level 2 airports, which are consistent with the WSG, including—services from the previous equivalent season over new demand for the same timings, services that are unchanged over services that plan to change time or other capacity relevant parameters, introduction of year-round services, effective period of operation, regularly planned operations over ad hoc operations, and other operational factors that may limit a carrier's timing flexibility. In addition to applying these Level 2 priorities from the WSG, the U.S. Government has adopted a number of measures and procedures to promote competition and new entry at U.S. slot controlled and schedule facilitated airports.

At Level 2 airports, the FAA seeks to improve communications with carriers and schedule facilitators on potential runway schedule issues or terminal and gate issues that may affect the runway times. The FAA also seeks to reduce the time that carriers consider proposed offers on schedules. Retaining open offers for extended periods of time may delay the facilitation process for the airport. Reducing this delay is particularly important to allow the FAA to make informed decisions at airports where operations in some hours are at or near the scheduling limits. The agency recognizes that there are circumstances that may require some schedules to remain open. However, the FAA expects to substantially complete the process on initial submissions each scheduling season within 30 days of the end of the Slot Conference. After this time, the agency would confirm the acceptance of proposed offers, as applicable, or issue a denial of schedule requests. At Level 3 airports, the FAA follows the slot offer and acceptance procedures set forth in the WSG.

Slot management in the United States differs from other countries that follow the WSG in some respects. In the United States, the FAA is responsible for facilitation and coordination of runway access for takeoffs and landings at Level 2 and Level 3 airports; however, the airport authority or its designee is responsible for facilitation and coordination of terminal/gate/airport facility access. The process with the individual airports for terminal access and other airport services is separate from, and in addition to, the FAA schedule review based on runway capacity. Approval from both the FAA and the airport authority for runway and airport availability, respectively, is necessary before implementing schedule plans. Contact information for Level 2 and Level 3 airports is available at http://www.iata.org/policy/slots/Pages/slot-guidelines.aspx.

Generally, the FAA uses average hourly runway capacity throughput for airports and performance metrics in its schedule reviews at Level 2 airports and for the scheduling limits at Level 3 airports.³ The FAA also considers other factors that can affect operations, such as capacity changes due to runway, taxiway, or other airport construction, air traffic control procedural changes, airport surface operations, and historical or projected flight delays and congestion.

³ The FAA typically determines an airport's average adjusted runway capacity or throughput for Level 2 and Level 3 airports by reviewing hourly data on the arrival and departure rates that air traffic control indicates could be accepted for that hour, commonly known as “called” rates. We also review the actual number of arrivals and departures that operated in the same hour. Generally, the FAA uses the higher of the two numbers, called or actual, for identifying trends and schedule review purposes. Some dates are excluded from analysis, such as during periods when extended airport closures or construction could affect capacity.

Finally, the FAA notes that the schedule information submitted by carriers to the FAA may be subject to disclosure under the Freedom of Information Act (FOIA). The WSG also provides for release of information at certain stages of slot coordination and schedule facilitation. In general, once it acts, the FAA may release information on slot allocation or similar slot transactions or schedule information reviewed as part of the schedule facilitation process. The FAA does not expect that practice to change and most slot and schedule information would not be exempt from release under FOIA. The FAA recognizes that some airlines may submit information on schedule plans that is not available to the public and may be considered by the carrier to be proprietary. Carriers that submit slot or schedule information deemed proprietary should clearly mark such information accordingly. The FAA will take the necessary steps to protect properly designated information to the extent allowable by law.

JFK Schedules

The Port Authority of New York and New Jersey (PANYNJ) plans construction on JFK Runway 13L/31R that will close the runway from April 1, 2019, through November 15, 2019. The FAA will develop an operational “playbook” for runway configurations that would be used under various weather and operating conditions while Runway 13L/31R is closed. The FAA worked with MITRE's Center for Advanced Aviation System Development on modeling the expected runway configuration and the results indicate that average arrival delays could increase modestly while departure delays would remain close to current levels or decrease due to runway configurations that have higher departure and lower arrival capacities. As with the three prior runway construction projects and closures, delays in the early and late months of the summer 2019 scheduling season are projected to increase over the typical delays in those months but remain below the average delays in the peak June to August months.

The FAA will work closely with the airport and operators to efficiently manage operations during construction. The PANYNJ meets regularly with airlines and other stakeholders to discuss construction plans and consults with the FAA and local air traffic control facilities to minimize operational impacts. Carriers should contact the PANYNJ for the latest information on airport construction plans. The FAA New York District and the New York Area Program Integration Office also holds a regular Delay Initiatives Meeting that addresses construction and operational plans. These local meetings are the best sources of current construction-related information to assist in planning schedules and operations.

EWR Schedules

The FAA is continuing to monitor operations and delays at EWR and to identify ways to improve performance metrics and operational efficiency, and achieve delay reductions in a Level 2 environment. Demand for access to EWR and the New York City area remains high. Recent requests for flights at EWR have exceeded the scheduling limits in the 8 a.m. and 1300-2159 local hours. The FAA has advised carriers in prior seasons that it would not be able to accommodate all requests for new or retimed operations in peak hours and worked with carriers to identify times that were available. In some limited cases, carriers were able to swap with other airlines for their preferred times in the peak for winter 2018. Carriers may continue to seek swaps in order to operate within the peak. However, the FAA also continues to seek the voluntary cooperation of all carriers operating in peak hours to retime operations out of the peak to improve performance at EWR.

For the summer 2019 season, the hourly scheduling limit remains at 79 operations and 43 operations per half-hour. To help with a balance between arrivals and departures, the maximum number of scheduled arrivals or departures, respectively, is 43 in an hour and 24 in a half-hour. This would allow some higher levels of operations in certain periods (not to exceed the hourly limits) and some recovery from lower demand in adjacent periods. The FAA will accept flights above the limits if the flights were operated on a regular basis in summer 2018, but again, the FAA seeks cooperation of carriers to retime operations, to the extent feasible, out of the peak period. Additionally, the FAA will consider whether demand exceeds the limits in adjacent periods and consider average demand before determining whether there is availability for new flights in a particular period. However, the operational performance of the airport is unlikely to improve unless peak demand is reduced and schedules remain within the airport's arrival and departure limits.

The FAA notes that despite efforts to facilitate voluntary scheduling cooperation at EWR, and reductions in the hourly scheduling limits,⁴ average demand for summer 2018 in the afternoon and evening hours remains at 81 operations per hour as it was in summer 2017. There are periods when the demand in half-hours or consecutive half-hours exceeds the optimum runway capacity and the scheduling limits in this notice. The imbalance of scheduled arrivals and departures in certain periods has contributed to increased congestion and delays when the demand exceeds the arrival or departure rates. In particular, retiming a minimal number of arrivals in the early afternoon hours from the 1400 local hour to the 1300 and 1200 hours could have significant delay reduction benefits and help preserve the Level 2 designation at EWR.

⁴ The FAA has reduced the hourly scheduling limits from 81 per hour to 79 and effective with the winter 2018/2019 season, applied additional half-hour and arrival and departure limits. The FAA explained that operations approved previously at the higher limits and operated in the prior season would be accepted by the FAA even if they were above the limits, but new flights would not be approved above the current scheduling limits. The FAA continues to encourage carriers to retime flights to less congested periods to keep operations at or below the new scheduling limit to improve performance at the airport.

Based on historical demand, the FAA anticipates the 0700 to 0859 and 1330 to 2159 periods to be unavailable for new flights. Consistent with the WSG, carriers should be prepared to adjust schedules to meet the hourly limits in order to minimize potential congestion and delay. Carriers are again reminded that runway approval must be obtained from the FAA in addition to any requirements for approval from airport terminal or other facilities prior to operation.

The PANYNJ also plans construction on EWR Runway 11/29 during 2019. The plans currently include night and weeknight closures and a 12-day full closure in late August. The FAA will assess the potential operational impacts and any necessary mitigations once the construction plans are finalized. As indicated for the JFK runway construction, the PANYNJ is the best source of information on the construction and FAA meetings such as the Delay Initiative Meeting is the best source for operational plans.

Issued in Washington, DC, on September 24, 2018.
Jeffrey Planty,
Deputy Vice President, System Operations Services.

[FR Doc. 2018-21217 Filed 9-27-18; 8:45 am]

BILLING CODE 4910-13-P